DEPARTMENT OF THE TREASURY

Internal Revenue Service

Open Meeting of the Small Business/Self Employed—Taxpayer Burden Reduction Committee of the Taxpayer Advocacy Panel

AGENCY: Internal Revenue Service (IRS) Treasury.

ACTION: Notice.

SUMMARY: An open meeting of the Small Business/Self Employed—Taxpayer Burden Reduction Committee of the Taxpayer Advocacy Panel will be conducted in St. Paul, Minnesota. The TAP will be discussing issues pertaining to increasing compliance and lessening the burden for Small Business/Self Employed individuals.

DATES: The meeting will be held Thursday, June 15, 2006.

FOR FURTHER INFORMATION CONTACT: Marisa Knispel at 1-888-912-1227 or 718-488-3557.

SUPPLEMENTARY INFORMATION: Notice is hereby given pursuant to Section 10(a)(2) of the Federal

Advisory Committee Act, 5 U.S.C. App. (1988) that an open meeting of the Small Business/Self Employed—Taxpayer Burden Reduction Committee of the Taxpayer Advocacy Panel will be held Thursday, June 15, 2006 from 9 a.m. EDT to 12 p.m. EDT at the firm of Wilkerson, Guthmann & Johnson, LTD located at 55 East 5th Street, Suite 1300, St. Paul, MN 55101. Individual comments are welcomed and limited to 5 minutes per person. For more information and to confirm attendance, notification of intent to attend the meeting must be made with Marisa Knispel. Mrs. Knispel may be reached at 1-888-912-1227 or 718-488-3557. If you would like to have the TAP consider a written statement, please write to Marisa Knispel, TAP Office, 10 Metro Tech Center, 625 Fulton Street, Brooklyn, NY 11201, or you may post your comments to the Web site: http://www.improveirs.org.

The agenda will include the following: Various IRS issues.

Dated: May 15, 2006.
John Fay,
Acting Director, Taxpayer Advocacy Panel.

[FR Doc. E6-7622 Filed 5-18-06; 8:45 am]

BILLING CODE 4830-01-P